ENVIRONMENTAL PROTECTION AGENCY

[FRL-9258-1]

Science Advisory Board Staff Office; Notification of a Public Teleconference of the Science Advisory Board Lead Review Panel

AGENCY: Environmental Protection Agency (EPA).

ACTION: Notice.

SUMMARY: The EPA Science Advisory Board (SAB) Staff Office announces a public teleconference of the SAB Lead Review Panel to discuss its draft advisory report concerning two EPA documents entitled Approach for Developing Lead Dust Hazard Standards for Residences (November 2010 Draft) and Approach for Developing Lead Dust Hazard Standards for Public and Commercial Buildings (November 2010 Draft).

DATES: The SAB Lead Review Panel will conduct a public teleconference on February 22, 2011. The teleconference will begin at 1 p.m. and end at 5 p.m. (Eastern Time).

ADDRESSES: The teleconference will be conducted by telephone only.

FOR FURTHER INFORMATION CONTACT: Any member of the public wishing to obtain general information concerning the public teleconference may contact Mr. Aaron Yeow, Designated Federal Officer (DFO), via telephone at (202) 564-2050 or e-mail at yeow.aaron@epa.gov. General information concerning the EPA Science Advisory Board can be found on the EPA Web site at http://www.epa.gov/sab.

SUPPLEMENTARY INFORMATION: Pursuant to the Federal Advisory Committee Act, 5 U.S.C., App. 2 (FACA), notice is hereby given that the SAB Lead Review Panel will hold a public teleconference to discuss its draft advisory report concerning two EPA documents entitled Approach for Developing Lead Dust Hazard Standards for Residences (November 2010 Draft) and Approach for Developing Lead Dust Hazard Standards for Public and Commercial Buildings (November 2010 Draft). The SAB was established pursuant to 42 U.S.C. 4365 to provide independent scientific and technical advice to the Administrator on the technical basis for Agency positions and regulations. The SAB is a Federal Advisory Committee chartered under FACA. The SAB will comply with the provisions of FACA and all appropriate SAB Staff Office procedural policies.

Background: Human exposure to lead may cause a variety of adverse health effects, particularly in children. EPA's Office of Pollution Prevention and Toxics (OPPT) regulates toxic substances, such as lead, through the Toxic Substances Control Act (TSCA). In 2001, EPA established standards for lead-based paint hazards, which include lead in residential dust. OPPT is considering possible revision of the residential lead-based paint dust hazard standards and the development of lead-based paint dust hazard standards for public and commercial buildings. As part of this effort, OPPT has developed two draft documents, Approach for Developing Lead Dust Hazard Standards for Residences (November 2010 Draft) and Approach for Developing Lead Dust Hazard Standards for Public and Commercial Buildings (November 2010 Draft). OPPT sought consultative advice from the SAB Lead Review Panel on early drafts of the documents on July 6-7, 2010 [Federal Register Notice dated June 3, 2010 (75 FR 31433-31434)]. EPA has considered the advice provided by individual members of the SAB Lead Review Panel in developing the two documents and sought SAB peer review on December 6-7, 2010 [see Federal Register Notice dated November 10, 2010 (75 FR 69069)]. Materials from the December 6-7, 2010 meeting are posted on the SAB Web site at http://yosemite.epa.gov/sab/SABPRODUCT.NSF/MeetingCal/D64DDC861587DB14852577910051BAD1?OpenDocument.

The purpose of the upcoming teleconference is for the SAB Lead Review Panel to discuss its draft advisory report. The Panel's draft advisory report will be submitted to the chartered SAB for consideration and approval. A meeting agenda and the draft SAB review report will be posted at the above noted SAB Web site prior to the meeting.

Availability of Meeting Materials: Agendas and materials in support of the teleconference will be placed on the SAB Web site at http://www.epa.gov/sab in advance of the teleconference. For technical questions and information concerning EPA's draft document, please contact Dr. Jennifer Seed at (202) 564-7634, or seed.jennifer@epa.gov.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. They should send their comments directly to the Designated Federal Officer for the relevant advisory committee. Oral Statements: In general, individuals or groups requesting an oral presentation at a public teleconference will be limited to three minutes per speaker, with no more than a total of 30 minutes for all speakers. Each person making an oral statement should consider providing written comments as well as their oral statement so that the points presented orally can be expanded upon in writing. Interested parties should contact Mr. Aaron Yeow, DFO, in writing (preferably via e-mail) at the contact information noted above by February 15, 2011 to be placed on the list of public speakers. Written Statements: Written statements should be supplied to the DFO via email at the contact information noted above by February 15, 2011 so that the information may be made available to the Panel members for their consideration. Written statements should be supplied in one of the following electronic formats: Adobe Acrobat PDF, MS Word, MS PowerPoint, or Rich Text files in IBM-PC/Windows 98/2000/XP format. Submitters are requested to provide versions of signed documents, submitted with and without signatures, because the SAB Staff Office does not publish documents with signatures on its Web sites.

Accessibility: For information on access or services for individuals with disabilities, please contact Mr. Aaron Yeow at (202) 564-2050 or yeow.aaron@epa.gov. To request accommodation of a disability, please contact Mr. Yeow preferably at least ten days prior to the teleconference to give EPA as much time as possible to process your request.

Dated: January 20, 2011.
Anthony Maciorowski,
Deputy Director, EPA Science Advisory Staff Office.

[FR Doc. 2011-1641 Filed 1-25-11; 8:45 am]

BILLING CODE 6560-50-P